DEPARTMENT OF AGRICULTURE

Office of Advocacy and Outreach

Advisory Committee on Beginning Farmers and Ranchers; Request for Nominations

AGENCY: Office of Advocacy and Outreach, USDA.

ACTION: Notice of request for nominations.

SUMMARY: Pursuant to the Federal Advisory Committee Act, notice is hereby given that the Secretary of Agriculture is soliciting nominations for membership to fill six positions on the Advisory Committee on Beginning Farmers and Ranchers (the “Committee”).

DATES: Consideration will be given to nominations received on or before March 31, 2017.

FOR FURTHER INFORMATION CONTACT: Mrs. Kenya Nicholas, Designated Federal Official, USDA Office of Advocacy and Outreach, 1400 Independence Avenue SW., Washington, DC 20250-0170; (202) 720-6350; email: acbfr@osec.usda.gov.

ADDRESSES: Nomination packages may be sent by postal mail or commercial delivery to: Office of the Secretary, U.S. Department of Agriculture, 1400 Independence Avenue SW., Mail Stop 0601, Washington, DC 20250, Attn: Advisory Committee on Beginning Farmers and Ranchers. Nomination packages may also be faxed to (202) 720-7704.

SUPPLEMENTARY INFORMATION: The Committee advises the Secretary of Agriculture on matters broadly affecting new farmers and ranchers including strategies, policies, and programs that will enhance opportunities and create new farming and ranching operations. The Committee will consider Department goals and objectives necessary to implement prior recommendations. The Committee will develop and recommend an overall framework and strategies to encompass principles that leverage and maximize existing programs, and create and test new program opportunities.

In this notice, we are soliciting nominations from interested organizations and individuals from among ranching and farming producers (industry), related government, State, and Tribal agricultural agencies, academic institutions, commercial banking entities, trade associations, and related nonprofit enterprises. An organization may nominate individuals from within or outside its membership; alternatively, an individual may nominate herself or himself. Nomination packages should include a nomination form along with a cover letter or resume that documents the nominee's background and experience. Nomination forms are available on the Internet at https://www.ocio.usda.gov/document/ad-755 or may be obtained from the person listed under

The Secretary will select up to six members from among those organizations and individuals solicited in order to obtain the broadest possible representation on the Committee, pursuant to Section 5 of the Agricultural Credit Improvement Act of 1992 (Pub. L. 102-554), in accordance with the FACA and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Done in Washington, DC, this 1st day of March 2017.
Christian Obineme,
Associate Director, Office of Advocacy and Outreach.

[FR Doc. 2017-04392 Filed 3-6-17; 8:45 am]

BILLING CODE P